DEPARTMENT OF AGRICULTURE

Forest Service

Information Collection; Understanding Value Trade-offs Regarding Fire Hazard Reduction Programs in the Wildland-Urban Interface

AGENCY: Forest Service, USDA.

ACTION: Notice; request for comment.

SUMMARY: In accordance with the Paperwork Reduction Act of 1995, the Forest Service is seeking comments from all interested individuals and organizations on the extension with no revision of a currently approved information collection, Understanding Value Trade-offs regarding Fire Hazard Reduction Programs in the Wildland-Urban Interface.

DATES: Comments must be received in writing on or before April 22, 2008 to be assured of consideration. Comments received after that date will be considered to the extent practicable.

ADDRESSES: Comments concerning this notice should be addressed to Armando González-Cabán, Pacific Southwest Research Station, Forest Service, USDA, 4955 Canyon Crest Drive, Riverside, CA 92507.

Comments also may be submitted via facsimile to (909) 680-1501, or by e-mail to: agonzalezcaban@fs.fed.us.

The public may inspect comments received at 4955 Canyon Crest Drive, Riverside, CA 92507, building one reception area during normal business hours. Visitors are encouraged to call ahead to (909) 680-1500 to facilitate entry to the building.

FOR FURTHER INFORMATION CONTACT: Armando González-Cabán, Pacific Southwest Research Station, Forest Service, USDA, (909) 680-1525. Individuals who use telecommunication devices for the deaf (TDD) may call the Federal Relay Service (FRS) at 1-800-877-8339 twenty-four hours a day, every day of the year, including holidays.

SUPPLEMENTARY INFORMATION: Title: Understanding Value Trade-offs regarding Fire Hazard Reduction Programs in the Wildland-Urban Interface.

OMB Number: 0596-0189.

Expiration Date of Approval: September 30, 2008.

Type of Request: Extension with no revision.

Abstract: Forest Service and university researchers will contact recipients of a phone-mail questionnaire to help forest and fire managers understand value trade-offs regarding fire hazard reduction programs in the wildland-urban interface. Through those contacts, researchers will evaluate the responses of Florida residents to different scenarios related to fire-hazard reduction programs, determine how effective residents think the programs are, and calculate how much residents would be willing to pay to implement the alternatives presented to them. This information will help researchers provide better information to natural resource, forest, and fire managers when they are contemplating the kind and type of fire-hazard reduction program to implement to achieve forestland management planning objectives.

A random sample of Florida residents are contacted via random-digit dialed telephone calls and asked to participate in the research study. Those agreeing to participate then answer a minimal set of questions to determine pre-existing knowledge of fuels reduction treatments and provide a mailing address, as well as agreeing to a date and time for an in-depth interview related to the questionnaire. After completion of the in-depth interview, no further contact with the participants will occur.

A university research-survey center collects the information. A Forest Service researcher and a researcher at a cooperating university analyze the data collected. Both researchers are experienced in applied economic non-market valuation research and survey research.

The Forest Service, Bureau of Land Management, Bureau of Indian Affairs, National Park Service, Fish and Wildlife Service, as well as many state agencies with fire protection responsibilities will benefit from this.

At present the Forest Service, Bureau of Land Management, Bureau of Indian Affairs, National Park Service, Fish and Wildlife Service, and many State agencies with fire protection responsibilities are planning to embark on an ambitious and costly fuels reduction program for fire risk reduction and will benefit from public opinion on which treatments are most effective or desirable.

Estimate of Annual Burden: 30 minutes.

Type of Respondents: Members of the public.

Estimated Annual Number of Respondents: 2,500.

Estimated Annual Number of Responses per Respondent: 1.

Estimated Total Annual Burden on Respondents: 1,250 hours.

Comment is Invited

Comment is invited on: (1) Whether this collection of information is necessary for the stated purposes and the proper performance of the functions of the agency, including whether the information will have practical or scientific utility; (2) the accuracy of the agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request toward Office of Management and Budget approval.

Dated: February 15, 2008.
Ann M. Bartuska,
Deputy Chief for Research and Development.

[FR Doc. E8-3373 Filed 2-21-08; 8:45 am]

BILLING CODE 3410-11-P